DEPARTMENT OF THE INTERIOR

Fish and Wildlife Service

Receipt of an Application for an Incidental Take Permit for Residential Construction in Charlotte County, FL

AGENCY: Fish and Wildlife Service, Interior.

ACTION: Notice.

SUMMARY: We, the Fish and Wildlife Service (Service), announce the availability of an incidental take permit (ITP) and Habitat Conservation Plan (HCP). The Carlisle Group (applicant) requests an ITP pursuant to section 10(a)(1)(B) of the Endangered Species Act of 1973, as amended (Act). The applicant anticipates taking about 12.72 acres of Florida scrub-jay (Aphelocoma coerulescens) (scrub-jay) foraging, sheltering, and nesting habitat incidental to lot preparation for the construction of a multiple-family apartment complex and supporting infrastructure in Charlotte County, Florida (project). The applicant's HCP describes the mitigation and minimization measures proposed to address the effects of the project on the scrub-jay.

DATES: We must receive your written comments on the ITP application and HCP on or before December 24, 2007.

ADDRESSES: See the SUPPLEMENTARY INFORMATION section below for information on how to submit your comments on the ITP application and HCP. You may obtain a copy of the ITP application and HCP by writing the South Florida Ecological Services Office, Attn: Permit number TE168754-0, U.S. Fish and Wildlife Service, 1339 20th Street, Vero Beach, FL 32960-3559. In addition, we will make the ITP application and HCP available for public inspection by appointment during normal business hours at the above address.

FOR FURTHER INFORMATION CONTACT: Ms. Trish Adams, Fish and Wildlife Biologist, South Florida Ecological Services Office (see ADDRESSES); telephone: (772) 562-3909, ext. 232.

SUPPLEMENTARY INFORMATION: If you wish to comment on the ITP application and HCP, you may submit comments by any one of the following methods. Please reference permit number TE168754-0 in such comments.

1. Mail or hand-deliver comments to our South Florida Ecological Services Office address (see ADDRESSES).

2. E-mail comments to trish_adams@fws.gov. If you do not receive a confirmation that we have received your e-mail message, contact us directly at the telephone number listed under FOR FURTHER INFORMATION CONTACT.

Before including your address, phone number, e-mail address, or other personal identifying information in your comments, you should be aware that your entire comment—including your personal identifying information—may be made publicly available at any time. While you can ask us in your comment to withhold your personal identifying information from public review, we cannot guarantee that we will be able to do so.

Multiple-family apartment complex construction for the applicant's HCP will take place within Sections 04 and 5, Township 40, Range 23, Punta Gorda, Charlotte County, Florida, at the lot identified by property identification number 00952621460004. This lot is within scrub-jay-occupied habitat.

The lot encompasses about 20.11 acres. The project will be constructed in two phases. Phase I consists of construction on 5.08 acres of the western 12.47 acres, and Phase II consists of the eastern 7.64 acres. Phase II construction is not expected to begin until Phase I is complete. The applicant proposes to place 2.85 acres of occupied scrub-jay habitat located in Phase I under a perpetual conservation easement. In order to minimize take on site, the applicant has reduced the site plan, will clear vegetation outside of the scrub-jay nesting season (March 1 through June 30) or will conduct a nest survey prior to vegetation clearing, and will landscape with native vegetation. The applicant proposes to mitigate for the loss of 12.72 acres of scrub-jay habitat by acquiring 25.44 acres of credit at a Service approved scrub-jay conservation bank, or contributing a total of $569,417 to the Florida Scrub-jay Conservation Fund administered by The Nature Conservancy for Phase I impacts and an amount determined by multiplying 15.28 acres and the cost per acre determined by the Florida Scrub-jay Conservation Fund at the time of Phase II impacts. Funds in the Florida Scrub-jay Conservation Fund are earmarked for use in the conservation and recovery of scrub-jays and may include habitat acquisition, restoration, and/or management.

We have determined that the applicants' proposal, including the proposed mitigation and minimization measures, will have a minor or negligible effect on the species covered in the HCP. Therefore, the ITP is a “low-effect” project and qualifies as a categorical exclusion under the National Environmental Policy Act (NEPA), as provided by the Department of the Interior Manual (516 DM 2 Appendix 1 and 516 DM 6 Appendix 1). Low-effect HCPs are those involving (1) minor or negligible effects on federally listed or candidate species and their habitats and (2) minor or negligible effects on other environmental values or resources. Based on our review of public comments that we receive in response to this notice, we may revise this preliminary determination.

We will evaluate the HCP and comments submitted thereon to determine whether the application meets the requirements of section 10(a) of the Act (16 U.S.C. 1531 et seq.). If we determine that the application meets the requirements, we will issue the ITP for incidental take of the scrub-jay. We will also evaluate whether issuance of the section 10(a)(1)(B) ITP complies with section 7 of the Act by conducting an intra-Service section 7 consultation. We will use the results of this consultation, in combination with the above findings, in the final analysis to determine whether or not to issue the ITP.

Authority: We provide this notice pursuant to Section 10 of the Endangered Species Act (16 U.S.C. 1531 et seq.) and NEPA regulations (40 CFR 1506.6).

Dated: November 1, 2007.
Paul Souza,
Field Supervisor, South Florida Ecological Services Office.

[FR Doc. E7-22816 Filed 11-21-07; 8:45 am]

BILLING CODE 4310-55-P